DEPARTMENT OF JUSTICE

Notice of Lodging of Proposed Consent Decree Under the Comprehensive Environmental Response, Compensation, and Liability Act

On January, 29, 2021, the United States lodged a proposed consent decree with the United States District Court for the Northern District of Illinois in the lawsuit entitled United States v. Chains and Links, Inc. et al., Case No. 3:18-cv-50268 (N.D. Ill.). The proposed consent decree, if approved by Court after public comment, will fully resolve claims of the United States Environmental Protection Agency (“EPA”) against two of the four defendants named in the complaint, which seeks to recover response costs incurred by EPA in cleaning up a portion of the Bautsch Gray Mine Superfund site (“Site”) near Galena, Illinois. To resolve claims against them under Sections 106, 107, and 113(g)(2) of the Comprehensive Environmental Response, Compensation, and Liability Act (“CERCLA”), 42 U.S.C. 9606, 9607(a), and 9613(g)(2), the settling defendants—Thomas Wienen and Chains and Links, Inc. (“C&L”)—will reimburse the United States for $1,292,000 in response costs, which they shall pay in three installments over an 18-month period. In addition, the settling defendants must (1) use “best efforts” to secure the cooperation of a non-settling defendant in executing an environmental covenant with respect to a portion of the Site that C&L and the non-settling defendant jointly own and (2) pay to EPA 75% of the net proceeds if the property is sold after construction of the remedy at the Site. The proposed consent decree will provide the settling defendants with a “Covenant Not to Sue,” under which the United States will covenant not to sue or take administrative action against the settling defendants pursuant to Sections 106 and 107(a) of CERCLA regarding the Site, except as specifically provided in the “Reservation of Rights” clause. The proposed Consent Decree does not affect the United States' claims in the amended complaint with respect to the two non-settling defendants—West Galena Development, Inc. and the Estate of Lois Jean Wienen.

The publication of this notice opens a period for public comment on the proposed consent decree. Comments should be addressed to the Assistant Attorney General, Environment and Natural Resources Division, and should refer United States v. Chains and Links, Inc. et al., D.J. Ref. No. 90-11-3-10235. All comments must be submitted no later than thirty (30) days after the publication date of this revised notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will also provide a paper copy of the proposed consent decree upon written request and payment of reproduction costs. Please mail your request and payment to: Consent Decree Library, U.S. DOJ—ENRD, P.O. Box 7611, Washington, DC 20044-7611.

Please enclose a check or money order for $17 (68 pages at 25 cents per page reproduction cost) payable to the United States Treasury. For a paper copy without the appendices and signature pages, the cost is $8.5.

Patricia McKenna,
Assistant Section Chief, Environmental Enforcement Section, Environment and Natural Resources Division.

[FR Doc. 2021-02486 Filed 2-5-21; 8:45 am]

BILLING CODE 4410-15-P